DEPARTMENT OF HEALTH AND HUMAN SERVICES

Administration for Community Living

Notice of Federal Review of the American Samoa Protection and Advocacy System (P&A)

AGENCY: Administration for Community Living, Health and Human Services (HHS).

ACTION: Notice.

SUMMARY: Representatives of the Administration on Disabilities (AoD), Administration for Community Living (ACL), will be conducting a federal review of the American Samoa Protection and Advocacy System (P&A) on September 19-23, 2022. AoD is soliciting comments from interested parties on your experiences with the program, and strategies employed by P&A in meeting the needs of individuals with developmental disabilities and their families in American Samoa. You are encouraged to share your experiences by way of any of the following methods:

DATES: Comments should be received by September 1, 2022 in order to be included in the final report.

ADDRESSES: EMAIL: Elizabeth.leef@acl.hhs.gov, TELEPHONE: 202-475-2482, MAIL COMMENTS TO: Elizabeth Leef, Program Specialist, Administration on Disabilities, Administration for Community Living, 330 C Street SW, 1st Floor, Washington, DC 20201.

FOR FURTHER INFORMATION CONTACT: Elizabeth Leef, Administration for Community Living, Administration on Disabilities, 330 C Street SW, 1st Floor, Washington, DC 20201, 202-475-2482.

Authority: 45 CFR 1326.21(h)

Dated: June 15, 2022.
Alison Barkoff,
Acting Administrator & Assistant Secretary for Aging.

[FR Doc. 2022-13462 Filed 6-23-22; 8:45 am]

BILLING CODE 4154-01-P